INTERNATIONAL TRADE COMMISSION

[ Investigation No. 337-TA-623]

In the Matter of Certain R-134a Coolant (Otherwise Known as 1,1,1,2-Tetrafluoroethane) Enforcement Proceeding; Notice of Commission Determination Not To Review An Enforcement Initial Determination Finding No Violation of a Consent Order; Termination of the Enforcement Proceeding

AGENCY: U.S. International Trade Commission.

ACTION: Notice.

SUMMARY: Notice is hereby given that the U.S. International Trade Commission has determined not to review the enforcement initial determination (“EID”) issued by the presiding administrative law judge (“ALJ”) on September 21, 2009 in the above-captioned investigation, finding no violation of a September 11, 2008 consent order.

FOR FURTHER INFORMATION CONTACT: Michelle Walters Klancnik, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this enforcement proceeding, based on a complaint filed by INEOS Fluor Holdings Ltd., INEOS Fluor Ltd., and INEOS Fluor Americas LLC (“INEOS”). The complaint alleged that respondent Sinochem Environmental Protection Chemicals (Taicang) Co. Ltd. (“Sinochem (Taicang)”) violated the Commission's September 11, 2008 Consent Order. The Commission referred the proceeding to the Chief ALJ, who held a prehearing conference and evidentiary hearing on June 22, 2009 with all parties participating.

On September 21, 2009, the ALJ issued the subject EID, finding that respondent Sinochem (Taicang) did not violate the Consent Order. On October 6, 2009, INEOS filed a petition for review challenging the ALJ's conclusion. On October 13, 2009, respondent Sinochem (Taicang) and the Commission investigative attorney each filed oppositions to INEOS's petition.

The Commission has determined not to review the EID.

The authority for the Commission's determination is contained in section 337 of the Tariff Act of 1930, as amended (19 U.S.C. 1337), and in sections 210.42-46 and 210.75 of the Commission's Rules of Practice and Procedure (19 CFR 210.42-46 & 210.75).

By order of the Commission.
Issued November 23, 2009.
William R. Bishop,
Acting Secretary to the Commission.

[FR Doc. E9-28466 Filed 11-27-09; 8:45 am]

BILLING CODE P